NATIONAL ARCHIVES AND RECORDS ADMINISTRATION

Information Security Oversight Office

[NARA-2018-007]

State, Local, Tribal, and Private Sector Policy Advisory Committee (SLTPS-PAC)

AGENCY: National Archives and Records Administration (NARA).

ACTION: Notice of advisory committee meeting.

SUMMARY: We are announcing the following committee meeting of the State, Local, Tribal, and Private Sector Policy Advisory Committee (SLTPS-PAC).

DATES: The meeting will be held on January 24, 2017, from 10:00 a.m. to 12:00 p.m.

ADDRESSES: National Archives and Records Administration, 700 Pennsylvania Avenue NW., Jefferson Room, Washington, DC 20408.

FOR FURTHER INFORMATION CONTACT: Robert J. Skwirot, Senior Program Analyst, by mail at ISOO, National Archives Building; 700 Pennsylvania Avenue NW., Washington, DC 20408, by telephone at (202) 357-5398, or by email at robert.skwirot@nara.gov. Contact ISOO at ISOO@nara.gov.

SUPPLEMENTARY INFORMATION: We announce advisory committee meetings in accordance with the Federal Advisory Committee Act (5 U.S.C. app 2) and implementing regulation 41 CFR 101-6.

The purpose of this meeting is to discuss matters relating to the Classified National Security Information Program for state, local, tribal, and private sector entities.

The meeting will be open to the public. However, due to space limitations and access procedures, you must submit the name and telephone number of individuals planning to attend to the Information Security Oversight Office (ISOO) no later than Wednesday, January 17, 2017. ISOO will provide additional instructions for accessing the meeting's location.

Patrice Little Murray,
Committee Management Officer.

[FR Doc. 2017-25850 Filed 11-30-17; 8:45 am]

BILLING CODE 7515-01-P